SMALL BUSINESS ADMINISTRATION

Data Collection Available for Public Comments and Recommendations

ACTION: 60-day notice and request for comments.

SUMMARY: In accordance with the Paperwork Reduction Act of 1995, this notice announces the Small Business Administration's intentions to request approval on a new and/or currently approved information collection.

DATES: Submit comments on or before May 21, 2012.

ADDRESSES: Send all comments regarding whether this information collection is necessary for the proper performance of the function of the agency, whether the burden estimates are accurate, and if there are ways to minimize the estimated burden and enhance the quality of the collection, to Eric Eide, Innovation and Technology Analyst, Office of Technology, Small Business Administration, 409 3rd Street, 6th Floor, Washington, DC 20416.

FOR FURTHER INFORMATION CONTACT: Eric Eide, Innovation and Technology, mailto:202-205-7507%20%20gail.hepler@sba.gov 202-205-7576 eric.eide@sba.gov Curtis B. Rich, Management Analyst, 202-205-7030 curtis.rich@sba.gov.

SUPPLEMENTARY INFORMATION: The National Defense Reauthorization Act of 2012 (Pub. L. 112-81, Section 5001) contains the SBIR/STTR Reauthorization Act of 2011 (Reauthorization Act), which amends the Small Business Act. The legislation extends and broadens a requirement for the Small Business Administration (SBA) to maintain searchable, electronic databases that include pertinent information concerning each SBIR and STTR awards made through the programs. The legislation contains a new data reporting requirement from companies concerning their potential ownership by venture capital, hedge fund, and private equity firms. Additional data fields will be collected from applicants and awardees concerning applicant demographics and company information (such as number of employees, additional funding received). These new data reporting requirements supplement demographic and company information already collected from awardees (such as women or minority owned, award amount information, research abstract, Principal Investigator's name, etc). The legislation differentiates between data that is available to the public and data that is available to the government only. SBA is required to collect this information and report on it annually to Congress.

Title: “Small Business Innovation Research (SBIR) and Small Business Technology Transfer (STTR) programs. Individuals and small businesses may be applicants and awardees”

Description of Respondents: Respondents include individuals, and small businesses, that are participating in the SBIR and STTR programs. Individuals and small businesses may be applicants and awardees.

Form Number: N/A.

Annual Responses: 13,500.

Annual Burden: 38,500.

Curtis B. Rich,
Acting Chief, Administrative Information Branch.

[FR Doc. 2012-6702 Filed 3-19-12; 8:45 am]

BILLING CODE P